DEPARTMENT OF ENERGY

Federal Energy Regulatory Commission

Combined Notice of Filings

Take notice that the Commission has received the following Natural Gas Pipeline Rate and Refund Report filings:

Filings Instituting Proceedings

Docket Numbers: RP18-141-000.

Applicants: Transcontinental Gas Pipe Line Company.

Description: § 4(d) Rate Filing: Non-Conforming—Virginia Southside II to be effective 12/1/2017.

Filed Date: 11/2/17.

Accession Number: 20171102-5001.

Comments Due: 5 p.m. ET 11/14/17.

Docket Numbers: RP18-142-000.

Applicants: Texas Eastern Transmission, LP.

Description: § 4(d) Rate Filing: Negotiated Rate—Chesapeake to Eco-Energy 8948627 to be effective 11/1/2017.

Filed Date: 11/2/17.

Accession Number: 20171102-5003.

Comments Due: 5 p.m. ET 11/14/17.

Docket Numbers: RP18-143-000.

Applicants: Equitrans, L.P.

Description: § 4(d) Rate Filing: Negotiated Capacity Release Agreements—11/01/2017 to be effective 11/1/2017.

Filed Date: 11/2/17.

Accession Number: 20171102-5071.

Comments Due: 5 p.m. ET 11/14/17.

Docket Numbers: RP18-144-000.

Applicants: Texas Eastern Transmission, LP.

Description: § 4(d) Rate Filing: Access South and Adair SW—NRAs and NC Agreements to be effective 11/7/2017.

Filed Date: 11/2/17.

Accession Number: 20171102-5105.

Comments Due: 5 p.m. ET 11/8/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 3, 2017.
Kimberly D. Bose,
Secretary.

[FR Doc. 2017-24860 Filed 11-15-17; 8:45 am]

BILLING CODE 6717-01-P